NATIONAL AERONAUTICS AND SPACE ADMINISTRATION

[Notice 00-120]

NASA Advisory Council, Life and Microgravity Sciences and Applications Advisory Committee, NASA-NIH Advisory Subcommittee and Life Sciences Advisory Subcommittee; Joint Meeting

AGENCY: National Aeronautics and Space Administration.

ACTION: Notice of Meeting.

SUMMARY: In accordance with the Federal Advisory Committee Act, Pub. L. 92-463, as amended, the National Aeronautics and Space Administration announces a meeting of the NASA Advisory Council, Life and Microgravity Sciences and Applications Advisory Committee, NASA-NIH Advisory Subcommittee and Life Sciences Advisory Subcommittee Joint Meeting.

DATES: Wednesday, October 18, 2000, 8:00 a.m. to 5:00 p.m.

ADDRESSES: National Aeronautics and Space Administration Headquarters, 300 E Street, SW., MIC-3, Room 3H46, Washington, DC 20546.

FOR FURTHER INFORMATION CONTACT: Dr. David Tomko, Code UL, National Aeronautics and Space Administration, Washington, DC 20546, 202/358-0220.

SUPPLEMENTARY INFORMATION: The meeting will be open to the public up to the seating capacity of the room. The agenda for the meeting is as follows:

—Action Status

—NASA Life Sciences Division Update

—Biology and Life Sciences at NASA

—Status of Studies on ISS NGO

—Life Sciences Division FY'00 Performance Metrics

—NASA-NIH Interaction Report

—Preparation of Committee Findings and Recommendations

—Review of Committee Findings and Recommendations

It is imperative that the meeting be held on this date to accommodate the scheduling priorities of the key participants. Visitors will be requested to sign a visitor's register.

Dated: October 2, 2000.
Beth M. McCormick,
Federal Advisory Committee Act Management Officer, National Aeronautics and Space Administration.

[FR Doc. 00-25814 Filed 10-6-00; 8:45 am]

BILLING CODE 7510-01-U